DEPARTMENT OF COMMERCE

National Oceanic and Atmospheric Administration

50 CFR Part 648

[I.D. 012400B, 012900C]

Fisheries of the Northeastern United States; Atlantic Sea Scallop Fishery; Deep-sea Red Crab Fishery; Scoping Process

AGENCY: National Marine Fisheries Service (NMFS), National Oceanic and Atmospheric Administration (NOAA), Commerce.

ACTION: Notice of intent to prepare a Supplemental Environmental Impact Statement (SEIS), an Environmental Impact Statement (EIS), and notices of scoping processes; requests for comments; extensions of the comment periods.

SUMMARY: The New England Fishery Management Council (Council) recently announced its intention to prepare Amendment 10 to the Atlantic Sea Scallop Fishery Management Plan (FMP) and a Fishery Management Plan for deep-sea crab, and, if necessary, to prepare an SEIS and an EIS, respectively, to analyze the impacts of any proposed management measures for this action. NMFS is extending the comment period for submission of written comments for both actions to ensure opportunity for public comment.

DATES: Written comments on the intent to prepare the SEIS for Amendment 10 to the Atlantic Sea Scallop FMP must be received on or before 5:00 p.m., local time, March 6, 2000. Written scoping comments on the intent to prepare an EIS for the deep-sea red crab fishery must be received on or before 5:00 p.m., local time, March 3, 2000.

ADDRESSES: Written comments should be sent to Paul J. Howard, Executive Director, New England Fishery Management Council, 50 Water Street, Mill 2, Newburyport, MA 01950. Comments may also be sent via fax to (978) 465-0492. Comments will not be accepted if submitted via e-mail or Internet.

FOR FURTHER INFORMATION CONTACT: Paul J. Howard, Executive Director, New England Fishery Management Council (978) 465-0492. Requests for special accommodations should be addressed to the New England Fishery Management Council, 50 Water St., Mill 2, Newburyport, MA 01950; telephone: (978) 465-0492.

SUPPLEMENTARY INFORMATION: On February 4, 2000 (65 FR 5488), NMFS published notification of the Council's intention to prepare Amendment 10 to the Atlantic Sea Scallop FMP. See the February 4, 2000, Federal Register notification for background and scoping information related to Amendment 10 and for the public meeting schedule. NMFS is extending the period to submit written comments from March 1, 2000, to March 6, 2000.

On February 2, 2000 (65 FR 4941), NMFS published notification of the Council's intention to prepare an FMP for deep-sea red crab and to prepare an EIS, if necessary. See the February 2, 2000, Federal Register notification for background and scoping information related to this action and for the public meeting schedule. NMFS is extending the period for submission of written comments from February 21, 2000, to March 3, 2000.

Authority: 16 U.S.C. 1801 et seq.

Dated: February 7, 2000.
Bruce C. Morehead,
Acting Director, Office of Sustainable Fisheries, National Marine Fisheries Service.

[FR Doc. 00-3285 Filed 2-10-00; 8:45 am]

BILLING CODE 3510-22-F